FEDERAL DEPOSIT INSURANCE CORPORATION

Agency Information Collection Activities: Submission for OMB Review; Comment Request; Correction

AGENCY: Federal Deposit Insurance Corporation (FDIC).

ACTION: Notice; correction.

SUMMARY: The FDIC published a document in the Federal Register of December 27, 2007, concerning a notice of information collection to be submitted to OMB for review and approval under the Paperwork Reduction Act of 1995. The document contained an outdated estimate of time per response for the proposed survey with the result that the estimated total annual burden for the survey and the total burden for the overall collection were incorrect. In addition, with regard to the case studies, the number of respondents and the estimated time per response for the in-depth interview were outdated and, as a result, the estimated total burden for the case studies aspect of the collection was overstated. For purposes of clarity, information concerning the estimated burden for the collection is re-printed in its entirety.

FOR FURTHER INFORMATION CONTACT: Valerie Best at vbest@fdic.gov or 202-898-3812.

Correction

In the Federal Register of December 27, 2007, in FR Doc. E7-24963, volume 72, page 73347, in the first column, correct lines 15 to 43 to read as follows:

Title: National Survey on Banks' Efforts to Serve the Unbanked and Underbanked.

OMB Number: 3064-NEW.

1. Survey

Frequency of Response: Once.

Affected Public: FDIC-insured depository institutions.

Estimated Number of Respondents: 865.

Estimated Time per Response: 290 minutes per respondent.

Estimated Total Annual Burden: 290 minutes × 865 respondents = 4,181 hours.

2. Case Studies

Frequency of Response: Exploratory interview—once; in-depth interview—once.

Affected Public: 25 FDIC-insured depository institutions.

Estimated Number of Respondents: 25 FDIC-insured depository institutions.

Estimated Time per Response: Exploratory interview—1 hour; in-depth interview—3 hours.

Estimated Total Burden: 25 hours + 75 hours = 100 hours.

Total burden for this collection: 4,181 hours + 100 hours = 4,281 hours.

Dated at Washington, DC, this 28th day of December, 2007.
Federal Deposit Insurance Corporation.
Valerie J. Best,
Assistant Executive Secretary.

[FR Doc. E7-25576 Filed 1-2-08; 8:45 am]

BILLING CODE 6714-01-P